DEPARTMENT OF DEFENSE

Department of the Army; Corps of Engineers

Availability of the Final Supplemental Environmental Impact Statement for the Boston Harbor Inner Harbor Maintenance Dredging Project

AGENCY: Department of the Army, U.S. Army Corps of Engineers, DOD.

ACTION: Notice of availability.

SUMMARY: The U.S. Army Corps of Engineers, New England District has prepared a Final Supplemental Environmental Impact Statement to maintenance dredge the following Federal navigation channels: The Main Ship Channel upstream of Spectacle Island to the Inner Confluence, the upper Reserved Channel, the approach to the Navy Dry Dock, a portion of the Mystic River, and a portion of the Chelsea River (previously permitted) in Boston Harbor, MA. Maintenance dredging of the navigation channels landward of Spectacle Island is needed to remove shoals and restore the Federal navigation channels to their authorized depths. Materials dredged from the Federal channels will either be disposed at the Massachusetts Bay Disposal Site (for the material suitable for unconfined open water disposal) or, for the material not suitable for unconfined open water disposal, in confined aquatic disposal (CAD) cell(s). Major navigation channel improvements (deepening) were made in 1999 through 2001 in the Reserved Channel, the Mystic River, Inner Confluence and the Chelsea River. A Final EIS prepared for this previous navigation improvement project in June of 1995 identified selected use of CAD cells in the Mystic River, Inner Confluence, and Chelsea River were investigated. A new CAD cell for the proposed maintenance project will be constructed in the Mystic River and in the Main Ship Channel just below the Inner Confluence.

DATES: Submit comments on or before July 1, 2006.

ADDRESSES: If you wish to receive a copy of the FSEIS, Executive Summary, or provide comments on the FSEIS, please contact Mr. Michael F. Keegan, U.S. Army Corps of Engineers, New England District, Programs & Civil Project Management Branch, 696 Virginia Road, Concord, MA 01742.

FOR FURTHER INFORMATION CONTACT: Mr. Michael Keegan, (978) 318-8087.

SUPPLEMENTARY INFORMATION: The U.S. Army Corps of Engineers is authorized by the various River and Harbor Acts and Water Resources Development Acts to conduct maintenance dredging of the Federal navigation channels and anchorage areas in Boston Harbor.

Dated: May 23, 2006.
Curtis L. Thalken,
Colonel, Corps of Engineers, New England District.

[FR Doc. 06-5058 Filed 6-1-06; 8:45am]

BILLING CODE 3710-24-M